DEPARTMENT OF AGRICULTURE

Food Safety and Inspection Service

[Docket No. FSIS-2012-0051]

National Advisory Committee on Meat and Poultry Inspection

AGENCY: Food Safety and Inspection Service, USDA.

ACTION: Notice of public meeting.

SUMMARY: Pursuant to the Federal Advisory Committee Act, the Food Safety and Inspection Service (FSIS) is announcing a meeting of the National Advisory Committee on Meat and Poultry Inspection (NACMPI). The Committee is being convened to review two topics for FSIS. The first is strengthening Agency verification activities and guidance concerning sanitary dressing and antimicrobial interventions at veal slaughter operations. FSIS test results show that the percent positive for Shiga toxin-producing Escherichia coli (STEC) from trimmings and ground beef produced from veal are higher than trimmings and ground beef produced from other cattle slaughter classes. FSIS is seeking feedback from NACMPI on improvements FSIS can make to its verification activities related to sanitary dressing and interventions at veal slaughter establishments and improvements it can make to its compliance guidance to address veal slaughter operations.

FSIS is also seeking feedback from NACMPI on the ideal outreach strategy for communicating with the veal industry.

The second topic is a review of criteria for categorizing FSIS regulations as public health regulations. FSIS has revised its criteria for identifying regulations that are most closely related to public health outcomes. FSIS is seeking input from NACMPI on the criteria and feedback on the proposed approach.

DATES: The meeting is scheduled for January 16-17, 2013 from 9:00 a.m. to 5:00 p.m. Eastern Time. The committee will meet from 8:00 a.m. to 9:00 a.m. on January 16 for administrative purposes; this portion of the meeting is not open to the public.

ADDRESSES: The meetings will be held in the Auditorium at the Patriot Plaza III building, 355 E. Street SW., Washington, DC 20024. The auditorium is located on the first floor. Please note that due to increased security measures at the Patriot Plaza III, all persons wishing to attend are strongly encouraged to RSVP in advance.

FOR FURTHER INFORMATION CONTACT: General information about the committee can also be found at http://www.fsis.usda.gov/About_FSIS/NACMPI/index.asp. Sally Fernandez, Program Specialist, Designated Federal Officer, at Sally.Fernandez@fsis.usda.gov or 202-690-6524 (Phone), or (202) 690-6519 (Fax), may be contacted for specific questions about the committee or this meeting.

SUPPLEMENTARY INFORMATION:

Background

The purpose of the Committee is to provide advice to the Secretary of Agriculture concerning State and Federal programs with respect to meat, poultry, and processed egg products, inspection, safety, and other matters that fall within the scope of the Federal Meat Inspection Act and the Poultry Products Inspection Act. The Administrator of FSIS is the chairperson of the Committee. Membership of the Committee is drawn from representatives of consumer groups; producers; processors; and marketers from the meat, poultry and egg product industries; State and local government officials; and academia. The current members of the NACMPI are: Patricia K. Buck, Center for Foodborne Illness Research and Prevention; Dr. Fur-Chi Chen, Tennessee State University; Nancy J. Donley, STOP Foodborne Illness; Veneranda Gapud, Fieldale Farms Corporation; Sherika Harvey, Mississippi Department of Agriculture and Commerce; Dr. Heidi Kassenborg, Minnesota Department of Agriculture; Sarah A. Klein, Center for Science in the Public Interest; Dr. Carol L. Lorenzen, Missouri State University; Dr. John A. Marcy, University of Arkansas; Robert G. Reinhard, Sara Lee Corporation; Dr. Michael L. Rybolt, Hillshire Farms; Dr. Craig E. Shultz, Pennsylvania Department of Agriculture; Dr. John D. Tilden, Michigan Department of Agriculture and Rural Development; Steve E. Warshawer, Mesa Top Farm; Dr. J. Byron Williams, Mississippi State University; Christopher A. Waldrop, Consumer Federation of America; and Leonard W. Winchester, Public Health—Seattle & King County.

Register for the Meeting: The public is asked to pre-register for the meeting. Your pre-registration must state: The names of each person in your group; organization or interest represented; the number of people planning to give oral comments, if any; and whether anyone in your group requires special accommodations. Submit registrations to (we have to get a mailbox address). FSIS will also accept walk-in registrations. Members of the public requesting to give oral comment to the Committee must sign in at the registration desk.

Public Comments: Written public comments may be mailed to USDA/FSIS, 1400 Independence Avenue SW., Mail Stop 3778, Washington, DC 20250 or submitted via fax (202) 690-6519 or by email NACMPI@fsis.usda.gov. All written comments must arrive by January 12, 2013. Oral comments are also accepted. To request to give oral comments, see instructions under `Register for the Meeting' above.

Availability of Materials for the Meeting: All written public comments will be compiled into a binder and available for review at the meeting. Duplicate comments from multiple individuals will appear as one comment, with a notation that multiple copies of the comment were received. Please visit http://www.fsis.usda.gov/About_FSIS/NACMPI/index.asp to learn more about the agenda for or reports resulting from this meeting.

Meeting Accommodations: USDA is committed to ensuring that all interested persons are included in our events. If you are a person with a disability and request reasonable accommodations to participate in this meeting, please contact Sally Fernandez, Phone (202) 690-6524, Fax (202) 690-6519 or email Sally.Fernandez@fsis.usda.gov. All reasonable accommodation requests are managed on a case-by-case basis.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on December 13, 2012.
Alfred V. Almanza,
Administrator.

[FR Doc. 2012-30530 Filed 12-18-12; 8:45 am]

BILLING CODE 3410-DM-P